FEDERAL MEDIATION AND CONCILIATION SERVICE

29 CFR Part 1402

RIN 3076-AA16

Notice to Mediation Agency

AGENCY: Federal Mediation and Conciliation Service (FMCS).

ACTION: Final rule.

SUMMARY: The Federal Mediation and Conciliation Service (FMCS), issues a final rule amending its existing regulations to modify the submission method of information collection request, Notice to Mediation Agency, (Agency Form F-7) and remove the form titled “Notice to Mediation Agencies.”

DATES: This final rule is effective September 13, 2021.

ADDRESSES: Please contact the person identified in the FOR FURTHER INFORMATION CONTACT section for additional availability information.

FOR FURTHER INFORMATION CONTACT: Arthur Pearlstein, Director, Arbitration, Notice Processing, Shared Neutrals, apearlstein@fmcs.gov, 202-606-8103.

SUPPLEMENTARY INFORMATION:

I. Background

Parties to private-sector collective bargaining agreements must file certain notices with the Federal Mediation Conciliation Service pursuant to 29 U.S.C. 158(d)(3). This modification changes the submission process of information collection request, Notice to Mediation Agency (Agency Form F-7), from mail-in to electronic submission. This revision is necessary to increase efficiency of FMCS both by allowing FMCS to receive Agency Form F-7's more quickly, but also to reduce processing time. This will allow the Service to provide its services to the parties more quickly. This modification removes the language which includes the verbiage of the Form-F7, to allow for FMCS to modify the form, if necessary, without necessitating additional rule change.

II. Authority for This Rulemaking

FMCS' authority to issue rules is found in 29 U.S.C. 172 of Taft Harley Act of 1947. This regulation is within the scope of that authority.

III. Public Comment Period

The public comment period on the proposed rule opened on July 22, 2021, the date of its publication in the Federal Register, and closed on August 23, 2021. During this period, FMCS did not receive any comments on our proposed action.

List of Subjects in 29 CFR Part 1402

Administrative practice and procedure, Information collection requests, Labor management relations.

For the reasons discussed in the preamble, and under the authority 29 U.S.C. 172 of the Taft Hartley Act of 1947, FMCS amends 29 CFR part 1402 as follows:

1. The authority citation for part 1402 continues to read as follows:

Authority: Sec. 202, 61 Stat. 153, sec. 3, 80 Stat. 250, sec. 203, 61 Stat. 153; 5 U.S.C. 552, 29 U.S.C. 172, 173.

2. Revise § 1402.1 to read as follows:

§ 1402.1 Notice of dispute.

The notice of dispute filed with the Federal Mediation and Conciliation Service pursuant to the provisions of section 8(d)(3), of the Labor-Management Relations Act, 1947, as amended, shall be submitted electronically via a platform provided by FMCS. If electronic submission creates an undue hardship, the filer may contact the FMCS Notice Processing office to explain the circumstances and receive assistance. The Form F-7, for use by the parties in filing a notice of dispute, has been prepared by the Service.

Dated: September 7, 2021.
Sarah Cudahy,
General Counsel.

[FR Doc. 2021-19615 Filed 9-10-21; 8:45 am]

BILLING CODE 6732-01-P